GOVERNMENT ACCOUNTABILITY OFFICE

Government Auditing Standards—2024 Revision

AGENCY: U.S. Government Accountability Office.

ACTION: Notice of document availability.

SUMMARY: The U.S. Government Accountability Office (GAO) has issued its 2024 revision to Government Auditing Standards, known as the “Yellow Book.” To help ensure that the standards continue to meet the needs of the government auditing community, the Comptroller General of the United States established the Yellow Book Advisory Council to provide input on revisions to the Yellow Book. This 2024 revision of the standards includes the Advisory Council's input regarding the changes. It also includes input from public comments received on the 2023 exposure draft. The changes contained in the 2024 revision to Government Auditing Standards reflect major developments in the auditing, accountability, and financial management professions. The 2024 revision to Government Auditing Standards is available in electronic format for download from GAO's web page at www.gao.gov using GAO-24-106786 as a report number. It will also be available for sale in hardcopy from the Government Publishing Office in the near future at http://bookstore.gpo.gov or other GPO locations listed there. GAO-24-106786 may be used to find its GPO stock number and ISBN.

DATES: The 2024 revision will be effective December 15, 2025. Early implementation is permitted.

FOR FURTHER INFORMATION CONTACT: For information on Government Auditing Standards, please submit questions to James R. Dalkin, dalkinj@gao.gov or 202-512-3133.

Authority: Public Law 67-13, 42 Stat. 20 (June 10, 1921).

James R. Dalkin,
Director, Financial Management and Assurance, U.S. Government Accountability Office.

[FR Doc. 2024-02594 Filed 2-7-24; 8:45 am]

BILLING CODE 1610-02-P